DEPARTMENT OF THE INTERIOR

Office of the Secretary

[DR5A311IA000113]

Secretarial Commission on Indian Trust Administration and Reform

AGENCY: Office of the Secretary, Interior.

ACTION: Notice of meeting.

SUMMARY: The Secretarial Commission on Indian Trust Administration and Reform (the Commission) will hold a public meeting on June 7, 2013. During the public meeting, the Commission will: Attend to operational activities of the Commission; receive an update on the leasing regulations/HEARTH Act implementation; gain insights and knowledge from invited speakers and attendees about the trust relationship, other trust models, and trust reform; review Commission action items; and gain insights and perspectives from members of the public.

DATES: The Commission's public meeting will begin at 8 a.m. and end at 12 p.m. on June 7, 2013. Members of the public who wish to attend should RSVP by June 3, 2013, to: trustcommission@ios.doi.gov.

ADDRESSES: The public meeting will be held at the Courtyard by Marriott Downtown Oklahoma City, Two West Reno, Oklahoma City, OK 73102. We encourage you to RSVP to trustcommission@ios.doi.gov by June 3, 2013.

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION:

Background

The Secretarial Commission on Indian Trust Administration and Reform was established under Secretarial Order No. 3292, dated December 8, 2009. The Commission plays a key role in the Department's ongoing efforts to empower Indian nations and strengthen nation-to-nation relationships.

The Commission will complete a comprehensive evaluation of the Department's management and administration of the trust assets within a two-year period and offer recommendations to the Secretary of the Interior of how to improve in the future. The Commission will:

(1) Conduct a comprehensive evaluation of the Department's management and administration of the trust administration system;

(2) Review the Department's provision of services to trust beneficiaries;

(3) Review input from the public, interested parties, and trust beneficiaries, which should involve conducting a number of regional listening sessions;

(4) Consider the nature and scope of necessary audits of the Department's trust administration system;

(5) Recommend options to the Secretary to improve the Department's management and administration of the trust administration system based on information obtained from the Commission's activities, including whether any legislative or regulatory changes are necessary to permanently implement such improvements; and

(6) Consider the provisions of the American Indian Trust Fund Management Reform Act of 1994 providing for the termination of the Office of the Special Trustee for American Indians, and make recommendations to the Secretary regarding any such termination.

Comprehensive Evaluation

The Commission's purpose is to provide a thorough evaluation of the existing Indian trust management and trust administration system to support a reasoned and factually based set of options for potential management improvements. Grant Thornton LLP in partnership with Cherokee Services Group has been awarded a contract to perform a comprehensive evaluation of the Department's management of the trust administration system in support of the Commission's efforts.

This evaluation will depend on a nationwide information-gathering effort to produce meaningful recommendations. Over the next few months the management consultant will be contacting individuals, tribes, and Interior bureaus and offices to discuss current approaches to trust management and recommendations for improvement. The management consultant will also be assessing past trust reform efforts and capturing current initiatives already underway which contribute to a more effective trust management effort.

The management consultant will be attending the upcoming Indian Trust Commission's meeting in Oklahoma City and will be available to speak with if you wish to provide input and recommendations. The Commission encourages individuals to take the opportunity to provide Grant Thornton with your perspective on how the trust administration system currently operates. To contact Grant Thornton directly, you may send an email to Trust.Commission@us.gt.com.

Sovereignty Symposium 2013

Members of the Commission have been asked to sit on a panel to discuss the Trust Commission's work and share any draft recommendations regarding trust management and administration, and invite feedback from attendees. Members of the public will need to register separately and pay appropriate registration fees by visiting the Sovereignty Symposium 2013 Web page at www.thesovereigntysymposium.com. The Commission's panel session is scheduled for Thursday, June 6, 2013, from 1:30 p.m. to 5 p.m. at the Skirvin Hilton Hotel, One Park Avenue, Oklahoma City, OK 73102. The Commission would like the attendees of the Sovereignty Symposium to be aware that Grant Thornton, the management consultant, will be onsite Thursday, June 6, to interview allottees, beneficiaries, and tribal representatives. The Commission encourages individuals to take the opportunity to provide Grant Thornton with your perspective on how the trust administration system currently operates. To contact Grant Thornton directly, you may send an email to Trust.Commission@us.gt.com.

Public Meeting Details

On Friday, June 7, 2013, the Commission will hold a meeting open to the public. The following items will be on the agenda:

Friday, June 7, 2013

• Invocation

• Welcome, introductions, agenda review

• Commission operations reports and decision making

• Panel session regarding an update on leasing regulations and HEARTH Act implementation

• Gain insights and knowledge from invited speakers and attendees about the trust relationship, other trust models, and trust reform

• Review action items, meeting accomplishments and

• Closing blessing, adjourn

Written comments may be sent to the Designated Federal Official listed in the FOR FURTHER INFORMATION CONTACT section above. All meetings are open to the public; however, transportation, lodging, and meals are the responsibility of the participating public. To review all related material on the Commission's work, please refer to http://www.doi.gov/cobell/commission/index.cfm.

Dated: May 17, 2013.
David J. Hayes,
Deputy Secretary.

[FR Doc. 2013-12199 Filed 5-21-13; 8:45 am]

BILLING CODE 4310-W7-P